DEPARTMENT OF COMMERCE

Foreign-Trade Zones Board

Foreign-Trade Zone 2—New Orleans, Louisiana, Area

Site Renumbering Notice

Foreign-Trade Zone 2 was approved by the Foreign-Trade Zones Board on July 16, 1946 (Board Order 12), had eleven boundary changes from 1950-1969 (Board Orders 22, 36, 40, 45, 49, 52, 56, 64, 67, 70 and 79), and expanded on April 9, 1984 (Board Order 245), on May 8, 1986 (Board Order 331), on November 13, 1991 (Board Order 544), on August 25, 1998 (Board Order 1000), and on December 30, 2003 (Board Order 1310).

FTZ 2 currently consists of 24 “sites” totaling some 1301.74 acres in the New Orleans area. The current update does not alter the physical boundaries that have previously been approved, but instead involves an administrative renumbering of existing Site 5 to separate unrelated, non-contiguous sites for record-keeping purposes. Existing Site 5 consists of 37 separate “parcels” located at or adjacent to the Port of New Orleans. With this renumbering, the parcels will be designated as Sites 25 thru 61. Site number 5 will not be reused. The other existing sites will not be affected.

Under this revision, the site list for FTZ 2 will be as follows: Site 1 (2 acres, expires 7/1/2011) -- 1015 Distributors Row, Harahan; Site 2 (76 acres) -- Almonastar-Michoud Industrial District, Inner Harbor Navigation Canal and the Mississippi River Gulf Outlet; Site 3 (534 acres) -- Newport Industrial Park, Paris Road, New Orleans; Site 4 (4 acres) -- 200 Crofton Road, Kenner (adjacent to the New Orleans International Airport); Site 6 (136 acres) -- Arabi Terminal and Industrial Park located at Mile Point 90.5 on the Mississippi River, Arabi; Site 7 (216 acres) -- Chalmette Terminal and Industrial Park, Old Kaiser Plant, St. Bernard Highway, New Orleans; Site 8 (1.49 acres) -- 4501 North Galvez Street, New Orleans; Site 9 (1.42 acres) -- 1560 Tchoupitoulas Avenue, New Orleans; Site 10 (3.15 acres) -- 5301 Jefferson Highway, New Orleans; Site 11 (4.59 acres) -- 700 Edwards Avenue, New Orleans; Site 12 (6.65 acres, expires 8/31/2011) -- 333 Edwards Avenue, Jefferson Parish; Site 13 (4.05 acres, expires 8/31/2011) -- 415 Edwards Avenue, Jefferson Parish; Site 14 (2.29 acres, expires 8/31/2011) -- 5725 Powell Street, Jefferson Parish; Site 15 (7.6 acres, expires 8/31/2011) -- 6040 Beven Street, Jefferson Parish; Site 16 (5 acres, expires 8/31/2011) -- 325 Hord Street, Jefferson Parish; Site 17 (19.12 acres, 4 parcels, expires 8/31/2011) -- Port of New Orleans Nashville Avenue Terminal Complex located at Nashville Avenue and Grain Elevator Road; Site 18 (5.5 acres, expires 8/31/2011) -- 5050 Almonster Avenue, New Orleans; Site 19 (4.89 acres, expires 8/31/2011) -- 5042 Bloomfield Street, Jefferson; Site 20 (1.4 acres, expires 8/31/2011) -- Port of New Orleans Alabo Street Terminal; Site 21 (17.23 acres, 6 parcels, expires 8/31/2011) -- Port of New Orleans Louisiana Avenue Marine Terminal Complex; Site 22 (29.34 acres, expires 8/31/2011) -- 4300 Jourdan Road, New Orleans; Site 23 (10.58 acres, expires 8/31/2011) -- 13601 Old Gentilly Road, New Orleans; Site 24 (27.3 acres, expires 8/31/2011) -- 4010 France Road Parkway, New Orleans; Site 25 (7 acres) -- 5200 Coffee Drive, New Orleans; Site 26 (2 acres) -- 601 Market Street, New Orleans; Site 27 (2 acres) -- 1601 Tchoupitoulas Street, New Orleans; Site 28 (12 acres) -- 5630 Douglas Street, New Orleans; Site 29 (9 acres) -- 6230 Bienvenue Street, New Orleans; Site 30 (7 acres) -- 1400 Montegut Street, New Orleans; Site 31 (1 acre) -- 1645 Tchoupitoulas Street, New Orleans; Site 32 (1 acre) -- 1770 Tchoupitoulas Street, New Orleans; Site 33 (9 acres) -- 1930 Japonica Street, New Orleans; Site 34 (2 acres) -- 2941 Royal Street, New Orleans; Site 35 (2.52 acres) -- 600 Market Street, New Orleans, 1662 St. Thomas Street, New Orleans and 619 St. James Street, New Orleans; Site 36 (1 acre) -- 3101 Charters Street, New Orleans; Site 37 (1 acre) -- 2601 Decatur Street, New Orleans; Site 38 (1 acre) -- 2520 Decatur Street, New Orleans; Site 39 (13 acres) -- 5300 Old Gentilly Boulevard, New Orleans; Site 40 (8 acres) -- 4400 Florida Avenue, New Orleans; Site 41 (2 acres) -- 410/420/440 Josephine Street, New Orleans and 427 Jackson Avenue, New Orleans; Site 42 (7 acres) -- 500 Louisiana Avenue, New Orleans; Site 43 (1 acre) -- 500 N. Cortez Street, New Orleans; Site 44 (3 acres) -- 720 Richard Street, New Orleans; Site 45 (12 acres) -- 701/801 Thayer Street, New Orleans and 700/800 Atlantic Street, New Orleans; Site 46 (9 acres) -- 500 Edwards Avenue, New Orleans; Site 47 (9 acres) -- 14100 Chef Menteur Highway, New Orleans; Site 48 (1 acre) -- 2114-2120 Rousseau Street, New Orleans; Site 49 (10 acres) -- 1000 Burmaster Street, New Orleans; Site 50 (7 acres) -- 6025 River Road, New Orleans; Site 51 (17 acres) -- 620/640 River Road, New Orleans; Site 52 (1 acre) -- 1806 Religious Street, New Orleans; Site 53 (3 acres) -- 1050 S. Jeff Davis Parkway, New Orleans; Site 54 (2 acres) -- 1600 Annunciation Street, New Orleans; Site 55 (5 acres) -- 402 Alabo Street, New Orleans; Site 56 (4 acres) -- 4400 N. Galvez Street, New Orleans; Site 57 (2 acres) -- 1883 Tchoupitoulas Street, New Orleans; Site 58 (2 acres) -- 2311 Tchoupitoulas Street, New Orleans; Site 59 (2 acres) -- 2940 Royal Street, New Orleans; Site 60 (1.62 acres) -- 4403/4405 Roland Street, New Orleans; and, Site 61 (3 acres) -- 6101 Terminal Drive, New Orleans.

For further information, contact Camille Evans at Camille.Evans@trade.gov or (202) 482-2350.

Dated: November 24, 2009.
Andrew McGilvray,
Executive Secretary.

[FR Doc. E9-29002 Filed 12-03-09; 8:45 am]

BILLING CODE 3510-DS-S